ENVIRONMENTAL PROTECTION AGENCY

[FRL-6856-9]

Geiger (C&M Oil) Superfund Site, Rantowles, Charleston County, South Carolina; Notice of Proposed Settlement

AGENCY: Environmental Protection Agency.

ACTION: Notice of proposed settlement.

SUMMARY: Pursuant to 122(h)(1) of the Comprehensive Environmental Response, Compensation and Liability Act (“CERCLA”), the U.S. Environmental Protection Agency (“EPA”) proposes to settle its claims for past response costs incurred at the Geiger (C&M Oil) Site (“Site”) located in Rantowles, Charleston County, South Carolina with the following settling parties: Pile Drivers, Inc., the Department of Navy, and The Department of Army. For thirty (30) days following the date of publication of this notice, EPA will receive written comments relating to the settlement. EPA will consider all comments received and may modify or withdraw its consent to the settlement if comments received disclose facts or consideration which indicate that the settlement is inappropriate, improper, or inadequate. A copy of the proposed settlement may be obtained from Ms. Paula V. Batchelor, U.S. EPA Region 4, CERCLA Program Services Branch, Waste Management Division, 61 Forsyth Street, SW., Atlanta, Georgia 30303, (404) 562-8887. Comments should reference the Geiger (C&M Oil) Site in Rantowles, Charleston County, South Carolina.

Dated: August 7, 2000.
Franklin E. Hill,
Chief, CERCLA Program Services Branch, Waste Management Division.

[FR Doc. 00-21527 Filed 8-22-00; 8:45 am]

BILLING CODE 6560-50-P